DEPARTMENT OF LABOR

Employment and Training Administration

[TA-W-37,000 and NAFTA-3402]

Barry Callebaut USA, Incorporated, Van Leer Division, Jersey City, NJ; Notice of Negative Determination on Reconsideration

On January 24, 2000, the Department issued an Affirmative Determination Regarding Application for Reconsideration for the workers and former workers of the subject firm. The petitioners presented information regarding company imports of chocolate products and related ingredients and a shift in production of certain articles from Jersey City, New Jersey to Canada. The notice was published in the Federal Register on February 4, 2000 (65 FR 5690).

The Department initially denied TAA to the workers of Barry Callebaut USA, Incorporated, Van Leer Division, Jersey City, New Jersey, because the “contributed importantly” group eligibility requirement of Section 222(3) of the Trade Act of 1974, as amended, was not met. The investigation revealed that the layoffs at the Jersey City plant were attributable to a consolidation of operations and transfer of plant production to other domestic affiliated plants. Company wide domestic sales and production increased during the relevant time period.

The Department initially denied NAFTA-TAA for the workers of Barry Callebaut USA, Incorporated, Van Leer Division, Jersey City, New Jersey, because criteria (3) and (4) of paragraph (a)(1) of Section 250 of the Trade Act were not met. Layoffs at the Jersey City plant were attributable to a consolidation of operations and transfer of plant production to other domestic affiliated plants. Company wide domestic sales and production increased during the relevant time period. There was no shift of production from Jersey City, New Jersey to Canada or Mexico, nor any significant company imports of chocolate products from Canada or Mexico.

The petitioners claim that more than 30 percent of production and sales have been lost to Belgium and to the Canadian Barry Callebaut plants. On reconsideration, the Department contacted the company official to address petitioners' claims. The company has responded that it expects to shift some production from Jersey City to Canada in the near future, but to date, no shift has occurred. None of the production at the Jersey City plant has been shifted to Belgium. As found in the TAA petition investigation for workers of Barry Callebaut USA, Pennsauken, New Jersey (TA-W-35,971), the company does import cocoa powder. The Jersey City plant, however, is not impacted by increased imports of cocoa powder because workers rely on cocoa (raw material) to make their products. Cocoa powder production at the subject firm plant in Jersey City was relatively low in relation to total production at the subject plant and therefore, the Jersey City, New Jersey workers cannot be linked to the Pennsauken, New Jersey certification.

Since there was no decline in sales in the time period relevant to the investigation, a customer survey would serve no purpose.

Conclusion

After reconsideration, I affirm the original notice of negative determination of eligibility to apply for adjustment assistance and NAFTA-TAA for workers and former workers of Barry Callebaut USA, Incorporated, Van Leer Division, Jersey City, New Jersey.

Signed at Washington, D.C., this 6th day of March 2000.
Grant D. Beale,
Program Manager, Division of Trade Adjustment Assistance.

[FR Doc. 00-6381 Filed 3-14-00; 8:45 am]

BILLING CODE 4510-30-M